DEPARTMENT OF ENERGY

Federal Energy Regulatory Commission

Sunshine Act Meeting Notice

The following notice of meeting is published pursuant to section 3(a) of the government in the Sunshine Act (Pub. L. No. 94-409), 5 U.S.C. 552b:

AGENCY HOLDING MEETING: Federal Energy Regulatory Commission.

DATE AND TIME: April 21, 2011, 10 a.m.

PLACE: Room 2C, 888 First Street, NE., Washington, DC 20426.

STATUS: Open.

MATTERS TO BE CONSIDERED: Agenda.

* Note — Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

969th—Meeting, Regular Meeting
[April 21, 2011, 10 a.m.]
Item No. | Docket No. | Company
Administrative
A-1 | AD02-1-000 | Agency Business Matters.
A-2 | AD02-7-000 | Customer Matters, Reliability, Security and Market Operations.
A-3 | AD06-3-000 | Energy Market Assessment—2010 State of the Markets Report.
Electric
E-1 | OMITTED |
E-2 | OMITTED |
E-3 | OMITTED |
E-4 | OMITTED |
E-5 | RM10-12-000 | Electricity Market Transparency Provisions of Section 220 of the Federal Power Act.
E-6 | RM11-12-000 | Availability of E-Tag Information to Commission Staff.
E-7 | RD11-4-000 | North American Electric Reliability Corporation.
E-8 | RM09-14-000 | Version One Regional Reliability Standard for Transmission Operations.
E-9 | RM09-9-000 | Version One Regional Reliability Standards for Facilities Design, Connections, and Maintenance; Protection and Control; and Voltage and Reactive.
E-10 | RM10-8-000 | Electric Reliability Organization Interpretations of Interconnection Reliability Operations and Coordination and Transmission Operations Reliability Standards.
E-11 | RM10-29-000 | Electric Reliability Organization Interpretation of Transmission Operations Reliability Standard.
E-12 | RD11-2-000 | North American Electric Reliability Corporation.
E-13 | OMITTED |
E-14 | ER11-2140-000 | PJM Interconnection, L.L.C.
| ER11-2140-001
E-15 | ER10-209-000 | Commonwealth Edison Company.
| ER10-209-001 ER10-209-002 EL10-12-000 EL10-12-001 EL10-12-002 ER11-2931-000 | Commonwealth Edison Company of Indiana, Inc.
| ER10-640-000 | Midwest Independent Transmission System Operator, Inc.
| ER10-640-001
E-16 | ER10-355-000 | AEP Appalachian Transmission Company, Inc.
| ER10-355-001 | AEP Indiana Michigan Transmission Company, Inc.
|  | AEP Kentucky Transmission Company, Inc.
|  | AEP Ohio Transmission Company, Inc.
|  | AEP Oklahoma Transmission Company, Inc.
|  | AEP Southwestern Transmission Company, Inc.
|  | AEP West Virginia Transmission Company, Inc.
E-17 | OMITTED |
E-18 | EL00-95-255 | San Diego Gas & Electric Company v. Sellers of Energy and Ancillary Services.
| EL00-98-237 | Investigation of Practices of the California Independent System Operator and the California Power Exchange Corporation.
| EL01-10-066 | Puget Sound Energy, Inc. v. Sellers of Energy and/or Capacity.
| IN03-10-068 | Investigation of Anomalous Bidding Behavior and Practices in Western Markets.
| PA02-2-083 | Fact-Finding Investigation Into Possible Manipulation of Electric and Natural Gas Prices.
| EL03-137-030 | American Electric Power Service Corporation.
| EL03-180-059 | Enron Power Marketing, Inc. and Enron Energy Services Inc.
| ER03-746-033 | California Independent System Operator Corporation.
E-19 | TS10-2-000 | Black Hills Power, Inc.
| TS10-1-000 | Cross-Sound Cable Company, LLC.
| OA97-93-001 | The Empire District Electric Company.
| TS04-178-001
| OA11-1-000 | Golden Spread Electric Cooperative, Inc.
| OA11-2-000 | Golden Spread Panhandle Wind Ranch, LLC.
| TS09-7-000 | Muscatine Power & Water.
| TS09-10-000 | Northern California Power Agency
| OA98-7-001
| TS04-282-001 | Old Dominion Electric Cooperative.
| TS09-8-000 | Otter Tail Power Company.
| OA97-139-001
| TS10-4-000 | City of Roseville, California.
| TS09-9-000 | City of Santa Clara, California.
| EL99-4-001
| TS07-3-001 | Southern California Edison Company.
| OA08-116-001 | Wolverine Power Supply Cooperative, Inc.
| TS04-268-000 | Xcel Energy Services, Inc.
| TS04-268-001
E-20 | OMITTED
E-21 | OMITTED
E-22 | OMITTED
E-23 | ER06-356-002 | Midwest Independent Transmission System Operator, Inc.
E-24 | ER09-411-006 | Midwest Independent Transmission System Operator, Inc.
Gas
G-1 | IN07-26-004 | Brian Hunter.
G-2 | RP11-1538-000 | Natural Gas Supply Association, American Forest and Paper Association, American Public Gas Association, Independent Petroleum Association of America, and Process Gas Consumers Group.
G-3 | RP11-60-000 | Southern Natural Gas Company.
| RP11-60-001
G-4 | RP10-1410-000 | Kern River Gas Transmission Company.
Hydro
H-1 | P-12775-001 | City of Spearfish, South Dakota.
H-2 | P-13681-001 | Grand Coulee Project Hydroelectric Authority.
H-3 | P-2342-021 | PacifiCorp.
Certificates
C-1 | CP11-16-000 | Florida Gas Transmission Company, LLC.
C-2 | CP10-82-000 | Northern Natural Gas Company
|  | Southern Natural Gas Company.
|  | Florida Gas Transmission Company, LLC.
|  | Transcontinental Gas Pipe Line Company, LLC.
|  | Enterprise Field Services, LLC.
C-3 | CP11-51-000 | CenterPoint Energy-Mississippi River Transmission Corporation.

Issued April 14, 2011.
Kimberly D. Bose,
Secretary.

A free Webcast of this event is available through http://www.ferc.gov. Anyone with Internet access who desires to view this event can do so by navigating to http://www.ferc.gov's Calendar of Events and locating this event in the Calendar. The event will contain a link to its Webcast. The Capitol Connection provides technical support for the free Webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2011-9523 Filed 4-15-11; 11:15 am]

BILLING CODE P